Proclamation 9911 of July 19, 2019

50th Anniversary Observance of the Apollo 11 Lunar Landing

By the President of the United States of America

A Proclamation

In 1961, President John F. Kennedy boldly challenged our Nation to land an American on the Moon and return him safely to Earth within that decade. Eight years later, thanks to the spirit, pride, tenacity, and expertise of scientists, engineers, aviators, and visionaries, America completed this remarkable feat in human space exploration. On the 50th anniversary of this historic milestone, we honor the brave astronauts of the Apollo 11 spaceflight and all the men and women whose sacrifices, unwavering dedication, and extraordinary talent produced one of history's most triumphant achievements.

On July 16, 1969, families and communities around the world watched in awe and trepidation as a trio of astronauts—Neil Armstrong, Buzz Aldrin, and Michael Collins—climbed into the command module Columbia and left Earth on the first manned mission to land on the Moon. The intrepid pilots traveled nearly a quarter of a million miles through space, and 4 days later, on July 20, 1969, they landed the Apollo 11 lunar module on the Moon's Sea of Tranquility.

Neil Armstrong's first steps on the Moon brought humanity into a new era. And as he and Buzz Aldrin planted the American flag into the “magnificent desolation” of the Moon's surface, they left no doubt about what had brought humans to the new frontier—American ingenuity, grit, and determination.

Apollo 11 fueled advancements in many sectors of our society, including science, technology, and commerce. And the work of the National Aeronautics and Space Administration (NASA) and the entire aerospace industry remains critical to our Nation's continued quest for greatness, powers our economy, and strengthens our defense.

Early in my Administration, I pledged to renew America's commitment to human space exploration and the boundless potential beyond Earth's gravity. I revived the National Space Council within the White House to coordinate all space-related activities across the Government, including with the National Security Council on matters relating primarily to national security. The Space Council has helped to bring together skilled leaders in business and industry to accelerate innovation and seize opportunities throughout the space enterprise. I also signed Space Policy Directive-1, challenging NASA to lead the return of Americans to the Moon, eventually send the first Americans to Mars, and enable humans to expand and deepen our reach across the solar system.

As Neil Armstrong's boots pressed into the dust on the Moon's surface in 1969, he delivered an unforgettable message, “one small step for man, one giant leap for mankind.” His words have resonated around the globe and through the years to embolden dreamers and future explorers and to draw their attention to the power and the possibility of the boundless wonders of space. Today, we reaffirm our continuing and shared quest to unlock greater mysteries, take bigger leaps for humanity, and advance America's leadership in space exploration.

The success of Apollo 11 is one of our country's defining moments. As we observe this 50th anniversary of the first lunar landing, we celebrate the incredible voyage of our Nation's heroic astronauts, and all those who supported them from mission control and elsewhere back home. Their historic accomplishment rallies our patriotism and pride, ignites our sense of adventure, and steels our belief that no dream is impossible—no matter how lofty or challenging.

NOW, THEREFORE, I, DONALD J. TRUMP, President of the United States of America, by virtue of the authority vested in me by the Constitution and the laws of the United States, do hereby proclaim July 20, 2019, as the 50th Anniversary Observance of the Apollo 11 Lunar Landing. I call upon public officials, educators, and all Americans to observe this occasion by honoring the Apollo 11 mission and all of the men and women who have served in our Nation's space program.

IN WITNESS WHEREOF, I have hereunto set my hand this nineteenth day of July, in the year of our Lord two thousand nineteen, and of the Independence of the United States of America the two hundred and forty-fourth.

[FR Doc. 2019-15991

Filed 7-24-19; 11:15 am]

Billing code 3295-F9-P